DEPARTMENT OF ENERGY

Federal Energy Regulatory Commission

Combined Notice of Filings #1

Take notice that the Commission received the following electric rate filings:

Docket Numbers: ER10-2819-001.

Applicants: ALLETE, Inc.

Description: Allete, Inc submits its triennial market power analysis.

Filed Date: 12/30/11.

Accession Number: 20120104-0202.

Comments Due: 5 p.m. ET 2/28/12.

Docket Numbers: ER11-3839-001.

Applicants: Nevada Power Company.

Description: Rate Schedule No. 30 Amended & Restated TFA-Post Joint Settlement Proceedings to be effective 6/20/2011.

Filed Date: 1/4/12.

Accession Number: 20120104-5074.

Comments Due: 5 p.m. ET 1/25/12.

Docket Numbers: ER12-758-000.

Applicants: PJM Interconnection, L.L.C.

Description: Original Service Agreement No. 3169; Queue No. V3-052 (Line 17703) to be effective 12/5/2011.

Filed Date: 1/4/12.

Accession Number: 20120104-5063.

Comments Due: 5 p.m. ET 1/25/12.

Docket Numbers: ER12-759-000.

Applicants: PJM Interconnection, L.L.C.

Description: Original Service Agreement No. 3170; Queue No. V3-052 (Line 94507) to be effective 12/5/2011.

Filed Date: 1/4/12.

Accession Number: 20120104-5065.

Comments Due: 5 p.m. ET 1/25/12.

Docket Numbers: ER12-760-000.

Applicants: California Independent System Operator Corporation.

Description: 2012-01-04 CAISO Penalty Allocation Procedures Amendment to be effective 12/31/9998.

Filed Date: 1/4/12.

Accession Number: 20120104-5096.

Comments Due: 5 p.m. ET 1/25/12.

Docket Numbers: ER12-760-001.

Applicants: California Independent System Operator Corporation.

Description: 2012-01-04 Errata to Penalty Allocation Procedure Amendment to be effective 3/5/2012.

Filed Date: 1/4/12.

Accession Number: 20120104-5098.

Comments Due: 5 p.m. ET 1/25/12.

Docket Numbers: ER12-762-000.

Applicants: Pacific Gas and Electric Company.

Description: Notices of Termination of Service Agreement Nos. 38 and 86 under FERC Transmission Owner Tariff of Pacific Gas and Electric Company.

Filed Date: 1/4/12.

Accession Number: 20120104-5146.

Comments Due: 5 p.m. ET 1/25/12.

Take notice that the Commission received the following electric securities filings:

Docket Numbers: ES12-16-000.

Applicants: Southern Indiana Gas and Electric Company.

Description: Application of Southern Indiana Gas and Electric Company for issuance of short term debt securities authorization under Section 204 of the Federal Power Act.

Filed Date: 1/4/12.

Accession Number: 20120104-5145.

Comments Due: 5 p.m. ET 1/25/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 5, 2012.
Nathaniel J. Davis, Sr.,
Deputy Secretary.

[FR Doc. 2012-644 Filed 1-13-12; 8:45 am]

BILLING CODE 6717-01-P